DEPARTMENT OF COMMERCE

National Oceanic and Atmospheric Administration

RIN 0648-XH72

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject exempted fishing permit (EFP) application contains all the required information and warrants further consideration. Therefore, NMFS announces that the Assistant Regional Administrator proposes to recommend that an EFP be issued that would allow one commercial fishing vessel to conduct fishing operations that are otherwise restricted by the regulations governing the fisheries of the Northeastern United States. The EFP, which would enable the applicants to investigate the feasibility of using a trawl net with buoyant ground cables and a buoyant sweep to reduce seabed contact and improve species selectivity, would allow for exemptions for one vessel from the Northeast Multispecies Fishery Management Program as follows: Gulf of Maine (GOM) Rolling Closure Areas II, III, and IV.

Regulations under the Magnuson-Stevens Fishery Conservation and Management Act require publication of this notification to provide interested parties the opportunity to comment on applications for proposed EFPs.

DATES: Comments must be received on or before May 21, 2008.

ADDRESSES: Written comments should be sent to Patricia A. Kurkul, Regional Administrator, NMFS, Northeast Regional Office, 1 Blackburn Drive, Gloucester, MA 01930. Mark the outside of the envelope “Comments on the Buoyant Ground Cables Study.” Comments may also be sent via facsimile (fax) to (978) 281-9135, or submitted via e-mail to the following address: DA8-070@noaa.gov.

FOR FURTHER INFORMATION CONTACT: Edward Stern, Fishery Management Specialist, (978) 281-9177, fax (978) 281-9135.

SUPPLEMENTARY INFORMATION: An EFP application for this project was submitted on March 6, 2008, by Kelo Pinkham of the F/V JEANNE C (Permit #230524). The project, which extends previous work conducted by the applicants, has been refined since originally receiving a development grant in 2003 and included both flume tank trials and at-sea trials. An EFP issued in 2006, for calendar year 2007, authorized a total of 25 days of sampling for two vessels. An experimental otter trawl net, with floats incorporated along both the ground cables and the sweep, as well as drop chains integrated along the sweep, was constructed and flume tank tested in 2007. One vessel, the F/V OCEAN REPORTER (Permit #221596), completed 5 days of research in 2007. Due to unexpected research difficulties, the F/V JEANNE C only completed 5 out of the additional 20 research days remaining. To complete this research project, Kelo Pinkham of the F/V JEANNE C submitted a second EFP application after the first EFP's expiry on December 1, 2007.

This is a joint project with Dana Morse of Maine Sea Grant and is funded by the Northeast Consortium (NEC). The primary goal of the research is to develop and test a trawl net with buoyant ground cables and a buoyant sweep to reduce seabed contact and increase species selectivity. The intent of the applicant is that the experimental net, if successful, could potentially be suitable for fishing in areas requiring a haddock separator trawl and/or fishing in areas of hard bottom with the use of mid-water doors.

This EFP would be issued to the F/V JEANNE C to conduct 15 at-sea days of experimental fishing in an area northeast of the Western GOM Closure Area and northwest of the Cashes Ledge Closure Area (see Table 1). All fishing would be conducted outside of the Western GOM Closure Area and the Cashes Ledge Closure Area. This vessel is expected to make a total of 60 tows, fishing 4 tows per day, each of 2 hours in duration. Two of the tows per day would be fished with standard gear, and two would be fished with modified gear. Researchers intend to complete this project within 1 year of the date of issuance.

Table 1: Corner Coordinates for Experimental Fishing Area by F/V JEANNE C
Point | Latitude | Longitude
1 | 43°40′ N | 69°00′ W
2 | 43°40′ N | 70°00′ W
3 | 43°20′ N | 69°00′ W
4 | 43°20′ N | 70°00′ W
5 | 43°40′ N | 69°00′ W

The applicants have asked for an exemption to the regulations at 50 CFR 648.81(f)(1)(ii) through (iv), i.e., GOM Rolling Closure Areas II, III, and IV, respectively, due to a belief that there will be a better mixture of flounders, pollock, haddock, and cod present in the waters of the western GOM during these seasonal closures for testing the experimental gear.

During the 15 at-sea days of comparative fishing trials, the F/V JEANNE C would use A days-at-sea (DAS) and would be subject to all day and trip possession limits. All fish caught would be weighed and as many fish as possible would be measured. All undersized fish or fish that cannot legally be caught would be returned to the sea as quickly as practicable after measurement. The overall catch estimates expected for the remainder of this project under this EFP can be found in Table 2. The applicants anticipate a total harvest of 20,700 lb (9,389 kg), and an additional 10,100 lb (4,581.4 kg) of discards. The estimated GOM cod catch for the proposed number of DAS during this EFP would be 55 percent of the current daily possession limit of 800 lb (362.9 kg) for the proposed number of DAS. All legal-sized fish, within the possession limit, would be sold, with the proceeds returned to the NEC for the purpose of enhancing future research. The anticipated monkfish harvest is purposefully set at the maximum allowed for 15 DAS because the experimental trawl is designed to reduce flatfish, not monkfish, catch. If the researchers set over an area with monkfish, they do not anticipate any significant reductions in monkfish catch between a standard trawl and the experimental trawl.

Table 2: Estimated Catch and Discards by Species lb (kg)
Species | Harvest | Discards
Haddock | 6,000 (2,721.6) | 600 (272.2)
Cod | 6,000 (2,721.6) | 600 (272.2)
Monkfish | 4,500 (2,041.2) | 900 (408.2)
Grey Sole | 900 (408.2) | 100 (45.4)
Pollock | 600 (272.2) | 50 (22.7)
American Plaice | 600 (272.2) | 100 (45.4)
Winter Flounder | 300 (136.1) | 100 (45.4)
Redfish | 1,200 (544.3) | 300 (136.1)
Whiting | 300 (136.1) | 50 (22.7)
Hake sp. | 300 (136.1) | 100 (45.4)
Dogfish | 0 (0) | 3,000 (1,360.8)
Skate sp. | 0 (0) | 2,400 (1,088.6)
Lumpfish | 0 (0) | 600 (272.2)
Lobster | 0 (0) | 600 (272.2)
Crab sp. | 0 (0) | 600 (272.2)

The applicants may request minor modifications and extensions to the EFP throughout the course of research. EFP modifications and extensions may be granted without further public notice if they are deemed essential to facilitate completion of the proposed research and result in only a minimal change in the scope or impacts of the initially approved EFP request.

In accordance with NAO Administrative Order 216-6, a Categorical Exclusion or other appropriate NEPA document would be completed prior to the issuance of the EFP. Further review and consultation may be necessary before a final determination is made to issue the EFP. After publication of this document in the Federal Register, the EFP, if approved, may become effective following the public comment period.

Authority: 16 U.S.C. 1801 et seq.

Dated: May 1, 2008.
Emily H. Menashes
Acting Director, Office of Sustainable Fisheries, National Marine Fisheries Service.

[FR Doc. E8-9967 Filed 5-5-08; 8:45 am]

BILLING CODE 3510-22-S